DEPARTMENT OF HOMELAND SECURITY

Coast Guard

[CGD05-04-201]

Notice, Request for Comments; Letter of Recommendation, LNG Crown Landing LLC, Logan Township, Gloucester County, NJ

AGENCY: Coast Guard, DHS.

ACTION: Notice of public meeting; request for comments.

SUMMARY: The U.S. Coast Guard Captain of the Port (COTP) Philadelphia is preparing a letter of recommendation as to the suitability of the Delaware Bay and River waterway for liquefied natural gas (LNG) marine traffic. The letter of recommendation is in response to a letter of intent submitted by Crown Landing LLC to operate a LNG facility in Logan Township, Gloucester County, New Jersey. The COTP Philadelphia is soliciting written comments and related material, and will hold a public meeting seeking comments, pertaining specifically to maritime safety and security aspects of the proposed LNG facility. In preparation for issuance of a letter of recommendation and the completion of certain other regulatory mandates, the COTP Philadelphia will consider comments received from the public as input into a formalized risk assessment process. This process will assess the safety and security aspects of the facility, adjacent port areas, and navigable waterways.

DATES: (1) All written comments and related material must reach the Coast Guard on or before January 18, 2005.

(2) A public meeting will be held Tuesday, January 11, 2005, from 3 p.m. to 7 p.m.

(3) Those who plan to speak at the meeting should provide their name by January 7, 2005 to Lieutenant Commander Timothy Meyers using one of the methods listed under FOR FURTHER INFORMATION CONTACT.

ADDRESSES: You may submit written comments to Commanding Officer, U.S. Coast Guard Marine Safety Office/Group Philadelphia, One Washington Avenue, Philadelphia, Pennsylvania 19147. Marine Safety Office/Group Philadelphia maintains a file for this notice. Comments and material received will become part of this file and will be available for inspection and copying at the Marine Safety Office/Group Philadelphia, Waterways Management Branch, between 8 a.m. and 3 p.m. Monday through Friday, except Federal holidays.

The public meeting location is The Embassy Suites, 9000 Bartram Avenue, Philadelphia, Pennsylvania.

FOR FURTHER INFORMATION CONTACT: If you have questions on this notice, contact Lieutenant Commander Timothy Meyers at Coast Guard Marine Safety Office/Group Philadelphia, PA, by one of the methods listed below:

(1) Phone at (215) 271-4860.

(2) E-mail at TMEYERS@msogruphila.uscg.mil.

(3) Fax to (215) 271-4903.

SUPPLEMENTARY INFORMATION:

Request for Written Comments

We encourage you to submit written comments and related material pertaining specifically to marine safety and security aspects associated with the proposed LNG facility. If you do so, please include your name and address, identify the docket number for this notice (CGD05-04-201), and give the reason for each comment. You may submit your comments and related material by mail, or hand delivery, as described in ADDRESSES, or you may send them by fax or e-mail using the contact information under FOR FURTHER INFORMATION CONTACT. To avoid confusion and duplication, please submit your comments and material by only one means.

If you submit comments by mail or hand delivery, submit them in an unbound format, no larger than 8½ by 11 inches, suitable for copying and electronic filing. If you submit them by mail and would like to know that they reached U.S. Coast Guard Marine Safety Office/Group Philadelphia, please enclose a stamped, self-addressed postcard or envelope.

Public Meeting

Due to the scope and complexity of this project, we plan to hold a public meeting to allow the public the opportunity to comment on the proposed LNG facility. With advance notice, organizations and members of the public may provide oral statements regarding the suitability of the Delaware Bay and River waterway for LNG vessel traffic. In the interest of time and use of the public meeting facility, oral statements should be limited to five minutes. Persons wishing to make oral statements should notify Lieutenant Commander Timothy Meyers using one of the methods listed under FOR FURTHER INFORMATION CONTACT by January 7, 2005. Written comments may be submitted at the meeting or to the Docket up to January 18, 2005.

Background and Purpose

In accordance with the requirements of 33 CFR 127.007, Crown Landing LLC submitted a letter of intent on July 30, 2004 to operate an LNG facility in Logan Township, Gloucester County, NJ. Crown Landing LLC is a wholly owned subsidiary of BP America Production Company.

The proposed terminal is an LNG import, storage, and re-gasification facility. LNG carriers (ships) would berth at a new pier and LNG would be transferred by pipeline from the carriers to one of three storage tanks, each with a net capacity of 150,000 cubic meters (m³) and a gross capacity of 158,000 m³. The LNG would then be re-gasified and metered into natural gas pipelines. LNG would be delivered to the terminal in double-hulled LNG carriers ranging in capacity from 138,000 m³ to 200,000 m³. The larger carriers would measure up to approximately 1,500 feet long with up to approximately a 170 foot wide beam, and draw 38 feet of water. The Crown Landing terminal would handle approximately 100-150 vessels per year, depending upon natural gas demand, and carrier size, with shipments arriving about every three days.

The U.S. Coast Guard exercises regulatory authority over LNG facilities which affect the safety and security of port areas and navigable waterways under Executive Order 10173, the Magnuson Act (50 U.S.C. 191), the Ports and Waterways Safety Act of 1972, as amended (33 U.S.C. 1221, et seq.) and the Maritime Transportation Security Act of 2002 (46 U.S.C. Section 701). The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in Title 33 CFR part 105, and siting as it pertains to the management of vessel traffic in and around the LNG facility.

Upon receipt of a letter of intent from an owner or operator intending to build a new LNG facility, the Coast Guard COTP conducts an analysis that results in a letter of recommendation issued to the owner or operator and to the state and local governments having jurisdiction, addressing the suitability of the waterway to accommodate LNG vessels. Specifically, the letter of recommendation addresses the suitability of the waterway based on:

(1) The physical location and layout of the facility and its berthing and mooring arrangements.

(2) The LNG vessels' characteristics and the frequency of LNG shipments to the facility.

(3) Commercial, industrial, environmentally sensitive, and residential areas in and adjacent to the waterway used by the LNG vessels en route to the facility.

(4) Density and character of marine traffic on the waterway.

(5) Bridges, or other manmade obstructions in the waterway.

(6) Depth of water.

(7) Tidal range.

(8) Natural hazards, including rocks and sandbars.

(9) Underwater pipelines and cables.

(10) Distance of berthed LNG vessels from the channel, and the width of the channel.

In addition, the Coast Guard will review and approve the facility's operations manual and emergency response plan (33 CFR 127.019), as well as the facility's security plan (33 CFR 105.410).

The Coast Guard will also provide input to other Federal, State, and local government agencies reviewing the project. Under an interagency agreement the Coast Guard will provide input to, and coordinate with, the Federal Energy Regulatory Commission (FERC), the lead Federal agency for authorizing the siting and construction of onshore LNG facilities, on safety and security aspects of the Crown Landing project, including both the marine and land-based aspects of the project.

In order to complete a thorough analysis and fulfill the regulatory mandates cited above, the COTP Philadelphia will be conducting a formal risk assessment, evaluating various safety and security aspects associated with Crown Landing's proposed project. This risk assessment will be accomplished through a series of workshops focusing on the areas of waterways safety, port security, and consequence management, with involvement from a broad cross-section of government and port stakeholders with expertise in each of the respective areas. The workshops will be by invitation only. However, comments received during the public comment period will be considered as input into the risk assessment process.

Additional Information

Additional information about the Crown Landing LLC, LNG project is available from FERC's Office of External Affairs at 1-866-208-FERC or on the FERC Internet Web site (http://www.ferc.gov) using their eLibrary link. For assistance, please contact FERC online support at FERCOnlineSupport@ferc.gov or toll free at 1-866-208-3676, or for TTY contact 1-202-502-8659.

Information on Services for Individuals With Disabilities

For information on facilities or services for individuals with disabilities, or to request assistance at the meeting, contact Lieutenant Commander Timothy Meyers listed under FOR FURTHER INFORMATION CONTACT as soon as possible.

Dated: November 22, 2004.
Jonathan D. Sarubbi,
Captain, U.S. Coast Guard, Captain of the Port Philadelphia.

[FR Doc. 04-26588 Filed 12-2-04; 8:45 am]

BILLING CODE 4910-15-P